NUCLEAR REGULATORY COMMISSION

[NRC-2008-0066; DOCKET NO. 52-017]

Virginia Electric and Power Company D/B/A Dominion Virginia Power and Old Dominion Electric Cooperative Combined License Application for North Anna Unit 3; Environmental Assessment and Finding of No Significant Impact

The U.S. Nuclear Regulatory Commission (NRC) is considering issuance of an exemption from Title 10 of the Code of Federal Regulations (10 CFR), Section 50.71(e)(3)(iii) [10 CFR 50.71(e)(3)(iii)], for the North Anna Unit 3 Combined License (COL) Application, Docket Number 52-017, submitted by Virginia Electric and Power Company, doing business as Dominion Virginia Power (Dominion), and Old Dominion Electric Cooperative (ODEC), for the proposed facility to be located in Louisa County, Virginia. In accordance with 10 CFR 51.21, the NRC is issuing this environmental assessment and finding of no significant impact.

Environmental Assessment

Identification of the Proposed Action

The proposed action is a one-time schedule exemption from the requirements of 10 CFR 50.71(e)(3)(iii). During the period from the docketing of a COL application until the Commission makes a finding under 10 CFR 52.103(g) pertaining to facility operation, the applicant must, pursuant to 10 CFR 50.71(e)(3)(iii), submit an annual update to the final safety analysis report (FSAR), a part of the application. The proposed exemption would allow the applicant to submit the FSAR update scheduled for 2009 by June 30, 2010, and to submit the subsequent FSAR update in 2011. The FSAR update schedule could not be changed absent the exemption. The NRC is authorized to grant the exemption pursuant to 10 CFR 50.12. The proposed action is in accordance with the applicant's request dated November 17, 2009 (Agencywide Documents Access and Management System (ADAMS) Accession No. ML093240090).

Need for the Proposed Action

The proposed action is needed to provide the applicant sufficient time to fully incorporate into the FSAR update the most recent revision (Revision 6) of the Economic Simplified Boiling Water Reactor (ESBWR) Design Control Document (DCD) which was submitted to the NRC on August 31, 2009. The ESBWR design, referenced by the North Anna Unit 3 COL application, is currently undergoing NRC review for design certification and Revision 6 of the DCD was a comprehensive revision. The NRC expectation is that the FSAR update will fully incorporate Revision 6 of the DCD in an acceptable manner. The applicant has requested a one-time exemption from the schedule specified in 10 CFR 50.71(e)(3)(iii) to fully incorporate Revision 6 of the ESBWR DCD into the FSAR update.

Environmental Impacts of the Proposed Action

The NRC has completed its evaluation of the proposed action and concludes that there are no environmental impacts associated with the proposed exemption. The proposed exemption is solely administrative in nature in that it pertains to the schedule for submittal to the NRC of revisions to an application for a COL under 10 CFR Part 52 which has not been granted.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic or environmental justice impacts associated with the proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. Therefore, the environmental impacts of the proposed action and the alternative action are similar.

Alternative Use of Resources

The proposed action does not involve the use of any different resources than those previously considered in the Draft Supplemental Environmental Impact Statement (SEIS) related to the North Anna Unit 3 Combined License Application dated December 19, 2008.

Agencies and Persons Consulted

On November 30, 2009, the staff consulted with officials at the Commonwealth of Virginia, Virginia Department of Environmental Quality regarding the environmental impact of the proposed action. The representatives of the Commonwealth had no comments.

Finding of No Significant Impact

On the basis of the environmental assessment, the NRC concludes that the proposed action will not have a significant effect on the quality of the human environment. Accordingly, the NRC has determined not to prepare an environmental impact statement for the proposed action.

For further details with respect to the proposed action, see the applicant's letter dated November 17, 2009. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 2nd day of December 2009.
For the Nuclear Regulatory Commission.
Thomas A. Kevern,
Senior Project Manager, ESBWR/ABWR Projects Branch 1, Division of New Reactor Licensing, Office of New Reactors.

[FR Doc. E9-29324 Filed 12-8-09; 8:45 am]

BILLING CODE 7590-01-P